DEPARTMENT OF ENERGY

Federal Energy Regulatory Commission

[Docket No. RP08-60-000]

Wisconsin Public Service Corporation, Complainant, v. ANR Pipeline Company, Respondent; Notice of Complaint

November 8, 2007.

Take notice that on November 7, 2007, Wisconsin Public Service Corporation (WPSC), pursuant to Rule 206 of the Commission's Rules of Practice and Procedure, 18 CFR 385.206, tendered for filing a complaint against ANR Pipeline Company. WPSC states that it seeks an order from the Commission finding that ANR may not require WPSC to reduce the capacity under one particular transportation contract when it reduces certain transportation and storage entitlements under another contract as it is expressly permitted to do under section 35.4 of ANR's FERC Gas Tariff. WPSC further states that it seeks expedited treatment of its complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 28, 2007.

Kimberly D. Bose,
Secretary.

[FR Doc. E7-22393 Filed 11-15-07; 8:45 am]

BILLING CODE 6717-01-P